ENVIRONMENTAL PROTECTION AGENCY

40 CFR Part 1065

Engine-Testing Procedures

CFR Correction

In Title 40 of the Code of Federal Regulations, Part 1000 to End, revised as of July 1, 2009, on page 675, in § 1065.710, in Table 1, correct the entries for “Hydrocarbon composition” to read as follows:

§ 1065.710 Gasoline.

* * * * *

Table 1 of § 1065.710—Test Fuel Specifications for Gasoline
Item | Units | General testing | Low-temperature testing | Reference procedure ¹
* * * * *
Hydrocarbon composition:
Olefins | m³/m³ | Maximum, 0.10 | Maximum, 0.175 | ASTM D1319-03.
Aromatics |  | Maximum, 0.35 | Maximum, 0.304
Saturates |  | Remainder | Remainder
* * * * *
¹ ASTM procedures are incorporated by reference in § 1065.1010. See § 1065.701(d) for other allowed procedures.

* * * * *

[FR Doc. 2010-15829 Filed 6-28-10; 8:45 am]

BILLING CODE 1505-01-D